FEDERAL EMERGENCY MANAGEMENT AGENCY

44 CFR Part 67

[Docket No. FEMA-D-7502]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Associate Director, Mitigation Directorate, certifies that this proposed rule is exempt from the requirements of the Regulatory Flexibility Act because proposed or modified base flood elevations are required by the Flood Disaster Protection Act of 1973, 42 U.S.C. 4104, and are required to establish and maintain community eligibility in the National Flood Insurance Program. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. * Elevation in feet (NGVD): Existing | #Depth in feet above ground. * Elevation in feet (NGVD): Modified
Georgia | Atlanta (City), DeKalb County | Lullwater Creek | Approximately 150 feet upstream of downstream Lullwater Parkway crossing | None | *894
|  |  | Approximately 1,100 feet upstream of upstream Lullwater Parkway crossing | None | *911
|  | South Fork Peachtree Creek | Approximately 2,145 feet downstream of Johnson Road | *828 | *830
|  |  | Approximately 1,755 feet upstream of Johnson Road | *835 | *836
Maps available for inspection at the City of Atlanta Site Development Office, 55 Trinity Avenue, S.W., Atlanta, Georgia.
Send comments to The Honorable William Campbell, Mayor of the City of Atlanta, 55 Trinity Avenue, S.W., Atlanta, Georgia 30335.
Georgia | Bloomingdale (City), Chatham County | Tributary 2 | At confluence with Pipemakers Canal | None | *19
|  |  | At a point just upstream of Southern Railway | None | *23
Maps available for inspection at the Bloomingdale City Hall, 8 West Highway 80, Bloomingdale, Georgia.
Send comments to The Honorable William Strozier, Mayor of the City of Bloomingdale, P.O. Box 216, Bloomingdale, Georgia 31302.
Georgia | Chamblee (City), Decatur County | North Fork Peachtree Creek Tributary B | Approximately 575 feet upstream of Buford Highway | None | *913
|  |  | Approximately 950 feet upstream of Buford Highway | None | *915
Maps available for inspection at the Chamblee City Hall, 5468 Peachtree Road, Chamblee, Georgia.
Send comments to The Honorable Mary Goldenburg, Mayor of the City of Chamblee, 5468 Peachtree Road, Chamblee, Georgia 30341.
Georgia | Clarkston (City), DeKalb County | South Fork Peachtree Creek | Approximately 225 feet of Interstate Route 285 | *940 | *941
|  |  | Approximately 50 feet upstream of the upstream corporate limits | *959 | *962
Maps available for inspection at the Clarkston City Hall, 3921 Church Street, Clarkston, Georgia.
Send comments to The Honorable George Baldesare, Mayor of the City of Clarkston, 3921 Church Street, Clarkston, Georgia 30021.
Georgia | Decatur (City), DeKalb County | Peavine Creek | Approximately 70 feet downstream of Peavine Creek Tributary | *935 | *933
|  |  | Approximately 30 feet downstream of Peavine Creek Tributary | *935 | *934
Maps available for inspection at the City of Decatur Engineering Department, 2635 Talley Street, Decatur, Georgia.
Send comments to The Honorable Bill Floyd, Mayor of the City of Decatur, P.O. Box 220, Decatur, Georgia 30031.
Georgia | DeKalb County (Unincorporated Areas) | North Fork Peachtree Creek Tributary D-2 | Approximately 150 feet downstream of Briarcliff Road | None | *875
|  |  | Approximately 500 feet upstream of Aspen Drive | None | *966
|  | North Fork Peachtree Creek Tributary B | At confluence with North Fork Peachtree Creek | *859 | *861
|  |  | Approximately 575 feet upstream of Buford Highway | None | *913
|  | North Fork Peachtree Creek Tributary C | At confluence with North Fork Peachtree Creek | *910 | *914
|  |  | Approximately 2,480 feet upstream of Lynnray Drive | None | *982
|  | South Fork Peachtree Creek Tributary C | At confluence with South Fork Peachtree Creek | *902 | *905
|  |  | Approximately 300 feet upstream of North Arcadia Avenue | None | *966
|  | South Fork Peachtree Creek Tributary B | At confluence with South Fork Peachtree Creek | *991 | *988
|  |  | Approximately 800 feet upstream of Pine Valley Road | None | *1,071
|  | North Fork Peachtree Creek Tributary D-1 | At confluence with North Fork Peachtree Creek | None | *864
|  |  | Approximately 900 feet upstream of Greenoaks Circle | None | *988
|  | North Fork Peachtree Creek Tributary A | At confluence with North Fork Peachtree Creek | *851 | *849
|  |  | Upstream side of Eighth Street | *928 | *926
|  | North Fork Peachtree Creek | At downstream county boundary | *821 | *820
|  |  | Approximately 0.7 mile upstream of Pleasantdale Road | *927 | *924
|  | South Fork Peachtree Creek | At county boundary | *826 | *828
|  |  | Approximately 3,300 feet upstream of Elmdale Drive | None | *1,063
|  | North Fork Peachtree Creek Tributary D-3 | At confluence with North Fork Peachtree Creek Tributary D-1 | None | *918
|  |  | Approximately 0.1 mile upstream of Greenbrook Way | None | *968
|  | Peavine Creek | At confluence with South Fork Peachtree Creek | *837 | *840
|  |  | At Scott Boulevard | None | *952
|  | Peachtree Branch | At confluence with North Fork Peachtree Creek | *885 | *887
|  |  | Approximately 1.5 mile upstream of Interstate Route 285 | None | *966
|  |  | At confluence with South Fork Peachtree Creek | *976 | *978
|  | South Fork Peachtree Creek Tributary A | Approximately 2,250 feet upstream of Woburn Drive | None | *1,040
|  | Perimeter Creek | At confluence with Nancy Creek | *867 | *870
|  |  | Approximately 90 feet downstream of Arlington Drive | None | *1,058
|  | Nancy Creek | At county boundary | *855 | *853
|  |  | Approximately 25 feet downstream of Laurelway Road | *984 | *983
|  | Lullwater Creek | At confluence with Peavine Creek | *864 | *869
|  |  | Approximately 150 feet upstream of downstream Lullwater Parkway | *890 | *894
|  | Henderson Mill Creek | At confluence with Peachtree Creek | *888 | *890
|  |  | Approximately 0.77 mile upstream of Interstate Route 285 | None | *1,006
|  | North Fork Nancy Creek | At confluence with Nancy Creek | *874 | *876
|  |  | Approximately 525 feet upstream of confluence with Nancy Creek | *875 | *876
|  | Panthers Branch | A point approximately 815 feet upstream of Rock Springs Road | *787 | *786
|  |  | A point approximately 1,200 feet upstream of Thompson Mill Road | *809 | *808
|  | Fowler Branch | At confluence with Cobbs Creek | *801 | *804
|  |  | Approximately 0.4 mile upstream of confluence with Cobbs Creek | *803 | *804
|  | Nancy Creek Tributary A | At confluence with Nancy Creek | *929 | *931
|  | Nancy Creek Tributary B | Downstream side of Peachford Road | *930 | *931
|  |  | Approximately 1,225 feet upstream of confluence with Nancy Creek | *928 | *929
|  | Honey Creek | Approximately 1,175 feet downstream of Honey Creek Tributary A | None | *767
|  |  | Approximately 775 feet downstream of Honey Creek Tributary A | None | *768
|  | North Fork Peachtree Creek Tributary No. 2 | Approximately 1,600 feet downstream of English Oak Drive | None | *943
|  |  | Approximately 375 feet downstream of English Oak Drive | None | *953
|  | South Fork Peachtree Creek Tributary | Approximately 225 feet downstream of North Decatur Road | None | *902
|  |  | Approximately 50 feet upstream of Landover Drive | None | *908
Maps available for inspection at the DeKalb County Roads and Drainage Department, 4305 Memorial Drive, Decatur, Georgia.
Send comments to Ms. Liane Levetan, Chief Executive Officer, 1300 Commerce Drive, Decatur, Georgia 30030.
Georgia | Doraville (City), DeKalb County | Nancy Creek | At Tilly Mill Road | *957 | *953
|  |  | Approximately 1,450 feet upstream of Tilly Mill Road | *961 | *958
Maps available for inspection at the Doraville City Hall, 3725 Park Avenue, Doraville, Georgia.
Send comments to The Honorable Gene Lively, Mayor of the City of Doraville, 3725 Park Avenue, Doraville, Georgia 30340.
Illinois | Phoenix (Village), Cook County | Little Calumet River | At intersection of 9th Avenue and 153rd Street | None | *597
|  |  | Approximately 200 feet southeast of intersection of 153rd Street and 7th Avenue | None | *597
Maps available for inspection at the Phoenix Village Hall, 15240 Vincenes Road, Phoenix, Illinois.
Send comments to The Honorable Terry Wells, Mayor of the Village of Phoenix, 650 East Phoenix Center Drive, Phoenix, Illinois 60426.
Illinois | Robbins (Village), Cook County | Midlothian Creek | Approximately 1,350 feet downstream of 137th Street | *597 | *596
|  |  | Approximately 0.61 mile upstream of Kedzie Avenue | *607 | *604
Maps available for inspection at the Robbins Village Hall, 3327 West 137th Street, Robbins, Illinois.
Send comments to The Honorable Irene H. Brodie, Mayor of the Village of Robbins, 3327 West 137th Street, Robbins, Illinois 60472.
Maine | Benton (Town), Kennebec County | Sebasticook River | At downstream corporate limits | *59 | *61
|  |  | Approximately 1,450 feet downstream from corporate limits | *107 | *108
Maps available for inspection at the Benton Town Office, 1279 Clinton Avenue, Benton, Maine.
Send comments to Mr. Rick Lawrence, Chairman of the Benton Board of Selectmen, 1279 Clinton Avenue, Benton, Maine 04901.
Maine | Waterville (City), Kennebec County | Kennebec River | At downstream corporate limits | *55 | *56
|  |  | Approximately 1,990 feet upstream of confluence of Holland Brook | *91 | *92
|  | Messalonskee Stream | At confluence with Kennebec River. | *57 | *58
|  |  | At Automatic Project Dam | *83 | *79
Maps available for inspection at the Waterville City Hall, 1 Common Street, Waterville, Maine.
Send comments to The Honorable Nelson Madore, Mayor of the City of Waterville, Waterville City Hall, 1 Common Street, Waterville, Maine 04901.
Maine | Winslow (Town), Kennebec County | Kennebec River | At downstream corporate limits | *54 | *56
|  |  | At approximately 200 feet above upstream corporate limits | *92 | *92
|  | Sebasticook River | At confluence with Kennebec River | *59 | *61
|  |  | At upstream corporate limits | *59 | *61
Maps available for inspection at the Town of Winslow Assessor's Office, 16 Benton Avenue, Winslow, Maine.
Send comments to Mr. Edward A. Gagnon, Winslow Town manager, 16 Benton Avenue, Winslow, Maine 04902.
New Hampshire | Durham (Town), Strafford County | Petee Brook | At confluence with Beard's Creek | None | *8
|  |  | A point approximately 20 feet upstream of Durham Reservoir Spillway | None | *84
|  | College Brook | Approximately 40 feet upstream of the confluence with Oyster River | *14 | *15
|  |  | At Concord Road | None | *69
|  | Oyster River | Approximately 1,500 feet upstream of Mill Pond Dam | *14 | *15
|  |  | A point approximately 15 feet upstream of State Route 155A | None | *68
|  | Lamprey River | Approximately 40 feet upstream of Wiswall Road | None | *63
|  |  | At upstream corporate limits | None | *64
|  | Harnel Brook | At the confluence with Oyster River | *14 | *15
|  |  | Approximately 1,600 feet upstream of the confluence with Oyster River | *14 | *15
Maps available for inspection at the Durham Town Hall, 15 New Market Road, Durham, New Hampshire.
Send comments to Mr. Duane Hyde, Town of Durham Director of Planning and Community Development, 15 New Market Road, Durham, New Hampshire 03824.
New Jersey | Harding (Township), Morris County | Passaic River | At downstream corporate limits | None | *230
|  |  | Approximately 1.15 miles upstream of Mount Kemble Avenue (U.S. Route 202) | *304 | *303
Maps available for inspection at the Township of Harding Municipal Building, Township Clerk's Office, Blue Mill Road, New Vernon, New Jersey.
Send comments to The Honorable Donald Dinsmore, Mayor of the Township of Harding, P.O. Box 666, New Vernon, New Jersey 07976.
New York | Champlain (Town), Clinton County | Great Chazy River | Confluence with Lake Champlain | None | *102
|  |  | Approximately 275 feet downstream from I-87 bridge | None | *130
Maps available for inspection at the Champlain Town Hall, 729 Route 9, Champlain, New York.
Send comments to Mr. Arnold A. Beal, Town of Champlain Supervisor, P.O. Box 3144, Champlain, New York 12919.
New York | Champlain (Village), Clinton County | Great Chazy River | Approximately 3,580 feet downstream of Elm Street Bridge | None | *103
|  |  | Approximately 3,300 feet upstream of U.S. Route 9 bridge | None | *127
Maps available for inspection at the Champlain Village Hall, 1104 Route 9 Main Street, Champlain, New York.
Send comments to The Honorable Melissa McManus, Mayor of the Village of Champlain, 1104 Route 9 Main Street, Champlain, New York 12919-1158.
New York | Litchfield (Town), Herkimer County | Steele Creek | Approximately 440 feet downstream of the most downstream crossing of State Route 51 | None | *703
|  |  | Approximately 150 feet upstream of Jordanville Road | None | *1,213
Maps available for inspection at the Litchfield Town Clerk's Office, 1250 Albany Road, Claysville, New York.
Send comments to Mr. Wayne Casler, Litchfield Town Supervisor, 508 Albany Road, West Winfield, New York 13491.
New York | North Elba (Town), Essex County | West Branch Ausable River | Approximately 50 feet downstream of State Route 86 | None | *644
|  |  | Approximately 170 feet upstream of State Route 73 | None | *1,680
|  | Chubb River, Reach 1 | At the confluence with West Branch Ausable River | None | *1,664
|  |  | Approximately 0.76 mile upstream of confluence with West Branch Ausable River | None | *1,668
|  | Chubb River, Reach 2 | Approximately 20 feet downstream of CONRAIL | None | *1,727
|  |  | Approximately 0.46 mile upstream of Old Military Road | None | *1,738
Maps available for inspection at the North Elba Town Clerk's Office, 301 Main Street, Lake Placid, New York.
Send comments to Ms. Shirley Seney, North Elba Town Supervisor, P.O. Box 385, Lake Placid, New York 12946.
Ohio | Brooklyn Heights (Village), Cuyahoga County | Cuyahoga River | At downstream corporate limit | *596 | *597
|  |  | At upstream corporate limit | *597 | *602
Maps available for inspection at the Western Reserve Engineering Company, 5605 Valley Belt Road, Independence, Ohio.
Send comments to The Honorable Robert Tonne, Mayor of the Village of Brooklyn Heights, 345 Tuxedo Avenue, Brooklyn Heights, Ohio 44131.
Ohio | Cuyahoga Heights (Village), Cuyahoga County | Cuyahoga River | Approximately 800 feet downstream side of Harvard Denison Bridge | *590 | *588
|  |  | Approximately 1,700 feet upstream side of Interstate 77 | *602 | *606
Maps available for inspection at the Cuyahoga Heights Village Hall, 4863 East 71st Street, Cuyahoga Heights, Ohio.
Send comments to The Honorable Louis Jo Bacci, Mayor of the Village of Cuyahoga Heights, 4863 East 71st Street, Cuyahoga Heights, Ohio 44125.
Ohio | Fort Recovery (Mercer County) | Buck Creek | Approximately 925 feet downstream of West Butler Street | None | *918
|  |  | At upstream most crossing of Sharpsburg Road | None | *949
Maps available for inspection at the Fort Recovery Village Offices, 201 South Main Street, Fort Recovery, Ohio.
Send comments to The Honorable John M. Wolf, Mayor of the Village of Fort Recovery, P.O. Box 340, Fort Recovery, Ohio 45846.
Ohio | Independence (City), Cuyahoga County | Cuyahoga River | At downstream corporate limits. | *598 | *602
|  |  | At Pleasant Valley Road | None | *620
Maps available for inspection at the City of Independence Building Department, 6335 Selig Drive, Independence, Ohio.
Send comments to The Honorable Fred Ramos, Mayor of the City of Independence, 6800 Brecksville Road, Independence, Ohio 44131.
Ohio | Mercer County (Unincorporated Areas) | Buck Creek | Approximately 300 feet downstream of Sharpsburg Road | None | *937
|  |  | Approximately 375 feet upstream of Sharpsburg Road | None | *952
Maps available for inspection at the Mercer County Engineer's Office, 321 Riley Street, Celina, Ohio.
Send comments to Mr. Jerry Laffin, Chairman of the Mercer County Board of Commissioners, 220 West Livingston Street, Celina, Ohio 45822.
Pennsylvania | Avondale (Borough), Chester County | East Branch White Clay Creek | Approximately 330 feet downstream of State Route 41 | * 272 | * 271
|  |  | Approximately 1,060 feet upstream of 3rd Avenue | * 279 | * 280
Maps available for inspection at the Avondale Borough Hall, 110 Palmroy Avenue, Avondale, Pennsylvania.
Send comments to Mr. Lou Kirkaldie, Chairman of the Borough of Avondale Planning Commission, P.O. Box 247, Avondale, Pennsylvania 19311.
Pennsylvania | Caln (Township) Chester County | East Branch Brandywine Creek | Approximately 500 feet downstream of State Route 282 (at Norwood Road) | * 243 | * 244
|  |  | Approximately 1,100 feet upstream of U.S. Route 30 and 282 | * 253 | * 254
Maps available for inspection at the Caln Municipal Building, Department of Engineering and Code Enforcement, 253 Municipal Drive, Thorndale, Pennsylvania.
Send comments to Ms. Illaria Steele, President of the Township of Caln Board of Commissioners, 253 Municipal Drive, Thorndale, Pennsylvania 19372.
Pennsylvania | Coatesville (City), Chester County | West Branch Brandywine Creek | Approximately 2,800 feet downstream of Business Route 30 | * 308 | * 307
|  |  | Just downstream of Kings Highway | * 363 | * 362
Maps available for inspection at the Coatesville City Hall, Codes Department, 1 City Hall Place, Coatesville, Pennsylvania.
Send comments to Mr. Paul Janssen, Coatesville City Manager, 1 City Hall Place, Coatesville, Pennsylvania 19320.
Pennsylvania | Downingtown (Borough), Chester County | East Branch Brandywine Creek | Approximately 3,000 feet upstream of U.S. Route 322 | * 229 | * 232
|  |  | Approximately 700 feet upstream of U.S. Route 30 over State Route 282 | * 252 | * 253
Maps available for inspection at the Downingtown Borough Hall, 4 West Lancaster Avenue, Downingtown, Pennsylvania.
Send comments to Mr. Anthony Gambale, Downingtown Borough Manager, 4 West Lancaster Avenue, Downingtown, Pennsylvania 19335.
Pennsylvania | East Bradford (Township), Chester County | East Branch Brandywine Creek | Approximately 450 feet downstream of Route 842 | * 186 | * 187
|  |  | Approximately 1,250 feet downstream of U.S. Route 322 (second crossing) | * 225 | * 224
|  | West Branch Brandywine Creek | Approximately 200 feet upstream of confluence with Brandywine Creek | * 186 | * 187
|  |  | Approximately 4,200 feet upstream of State Road 842 (Wawaset Road) | * 194 | * 195
Maps available for inspection at the East Bradford Township Hall, 666 Copeland Road, West Chester, Pennsylvania.
Send comments to Mr. John Jordan, Chairman of the East Bradford Board of Supervisors, 666 Copeland Road, West Chester, Pennsylvania 19380.
Pennsylvania | East Brandywine (Township), Chester County | East Branch Brandywine Creek | Approximately 1,100 feet upstream of U.S. Route 30 over Route 282 | * 253 | * 254
|  |  | Approximately 3,500 feet upstream of Lyndell Road | * 343 | * 338
Maps available for inspection at the East Brandywine Township Office, 1214 Horseshoe Pike, Downingtown, Pennsylvania.
Send comments to Mr. Hudson Boltz, Chairman of the Township of East Brandywine Board of Supervisors, 1214 Horseshoe Pike, Downingtown, Pennsylvania, 19335.
Pennsylvania | East Caln (Township) Chester County | East Branch Brandywine Creek | Approximately 1,125 feet downstream of U.S. Route 322 (second crossing) | * 225 | * 224
|  |  | Approximately 2,350 feet downstream of Dowlin Forge Road | * 261 | * 260
Maps available for inspection at the East Caln Township Hall, 110 Bell Tavern Road, Downingtown, Pennsylvania.
Send comments to Mr. Edwin Hill, East Caln Township Manager, P.O. Box 232, Downingtown, Pennsylvania, 19335.
Pennsylvania | East Fallowfield (Township), Chester County | West Branch Brandywine Creek | Approximately 500 feet downstream of State Route 3062 (Strasburg Road) | * 251 | * 252
|  |  | Approximately 500 feet downstream of Luria Bro's Railroad bridge | * 271 | * 272
Maps available for inspection at the East Fallowfield Township Hall, 2264 Strasburg Road, East Fallowfield, Pennsylvania.
Send comments to Mr. Earl Emel, Chairman of the Township of East Fallowfield Board of Supervisors, 2264 Strasburg Road, East Fallowfield, Pennsylvania, 19320.
Pennsylvania | Honey Brook (Township), Chester County | East Branch Brandywine Creek | Just upstream of South Creek or Chestnut Tree Road | None | *558
|  |  | Approximately 2,920 feet upstream of Suplee Road | None | *597
Maps available for inspection at the Honey Brook Township Building, 495 Suplee Road, Honey Brook, Pennsylvania.
Send coments to Ms. Michal A. Jany, Honey Brook Township Chairperson, P.O. Box 1281, Honey Brook, Pennsylvania, 19344.
Pennsylvania | London Grove (Township), Chester County | East Branch White Clay Creek | Approximately 1,080 feet upstream of Third Avenue | None | *279
|  |  | Approximately 1,440 feet upstream of Third Avenue | None | *280
Maps available for inspection at the London Grove Township Hall, 372 Rosehill Road, Suite 100, West Grove, Pennsylvania.
Send comments to Ms. Constance Alegranti, Chairperson of the Township of London Grove Board of Supervisors, 372 Rosehill Road, Suite 100, West Grove, Pennsylvania, 19939.
Pennsylvania | Modena (Borough), Chester County | West Branch Brandywine Creek | Approximately 500 feet downstream of Luria Railroad Bridge (CONRAIL) | *271 | *272
|  |  | Approximately 4,200 feet downstream of First Avenue | *284 | *283
Maps available for inspection at the Modena Borough Hall, North Brandywine Avenue, Modena, Pennsylvania.
Send comments to Mr. Edward Gross, Borough of Modena Council President, P.O. Box 116, Modena, Pennsylvania 19358.
Pennsylvania | New Garden (Township), Chester County | East Branch White Clay Creek | Approximately 1,080 feet upstream of Third Avenue | None | *279
|  |  | Approximately 1,440 feet upstream of Third Avenue | None | *280
Maps available for inspection at the New Garden Township Building, 8934 Gap Newport Pike, Landenburg, Pennsylvania.
Send comments to Mr. Willard H. Smedley, Chairman of the Township of New Garden Board of Supervisors, 8934 Gap Newport Pike, Landenburg, Pennsylvania 19350.
Pennsylvania | Newlin (Township), Chester County | West Branch Brandywine Creek | Approximately 800 feet upstream of State Route 3027 (Northbrook Road) | *203 | *202
|  |  | Approximately 500 feet downstream of State Route 3062 (Strasburg Road) | *251 | *252
Maps available for inspection at Yerkey's Associates, 1444 Phoenixville Pike, West Chester, Pennsylvania.
Send comments to Mr. Robert Pearson, Chairman of the Township of Newlin Board of Supervisors, P.O. Box 133, Unionville, Pennsylvania 19375.
Pennsylvania | Pocopson (Township), Chester County | West Branch Brandywine Creek | Approximately 200 feet upstream of confluence with Brandywine Creek | *186 | *187
|  |  | Approximately 2,500 feet upstream of State Route 3027 (Northbrook Road) | *204 | *203
Maps available for inspection at the Pocopson Township Hall, 740 Denton Hollow Road, West Chester, Pennsylvania.
Send comments to Mr. Bruce Yelton, Chairman of the Township of Pocopson Board of Supervisors, P.O. Box 1, Pocopson, Pennsylvania 19366.
Pennsylvania | South Coatesville (Borough), Chester County | West Branch Brandywine Creek | Approximately 4,725 feet downstream of First Avenue | *284 | *283
|  |  | Approximately 3,750 feet upstream of First Avenue | *307 | *305
Maps available for inspection at the South Coatesville Borough Hall, 136 Modena Road, South Coatesville, Pennsylvania.
Send comments to The Honorable James Kennedy, Mayor of the Borough of South Coatesville, 136 Modena Road, South Coatesville, Pennsylvania 19320.
Pennsylvania | Upper Uwchlan (Township), Chester County | East Branch Brandywine Creek | Approximately 600 feet downstream of Dorlan Hill Road | *283 | *281
|  |  | Approximately 3,500 feet upstream of Lyndell Road | *343 | *338
Maps available for inspection at the Upper Uwchlan Township Building, 140 Pottstown Pike, Chester Springs, Pennsylvania.
Send comments to Mr. Al Gaspari, Township of Upper Uwchlan Codes Administrator, 140 Pittstown Pike, Chester Springs, Pennsylvania 19425.
Pennsylvania | Uwchlan (Township), Chester County | East Branch Brandywine Creek | Approximately 2,350 feet downstream of Dowlin Forge Road | *261 | *260
|  |  | Approximately 600 feet downstream of Dorlan Hill Road | *283 | *281
Maps available for inspection at the Uwchlan Township Hall, 715 North Ship Road, Exton, Pennsylvania.
Send comments to Mr. C. Ward Braceland, Chairman of the Township of Uwchlan Board of Supervisors, 715 North Ship Road, Exton, Pennsylvania 19341.
Pennsylvania | Valley (Township), Chester County | West Branch Brandywine Creek | Approximately 3,300 feet downstream Business Route 30 (Lincoln Highway) | *307 | *305
|  |  | Approximately 1,050 feet upstream from Valley Station Drive | *344 | *341
Maps available for inspection at the Valley Township Building, 890 West Lincoln Highway, Coatesville, Pennsylvania.
Send comments to Mr. Grover Koon, Chairman of the Township of Valley Board of Supervisors, P.O. Box 467, Coatesville, Pennsylvania 19320.
Pennsylvania | Wallace (Township), Chester County | East Branch Brandywine Creek | Approximately 3,500 feet upstream of Lyndell Road | None | *338
|  |  | Approximately 6,000 feet downstream of North Manor Road | None | *481
Maps available for inspection at the Wallace Township Building, 451 Fairview Road, Glen Moore, Pennsylvania.
Send comments to Ms. Jane Shields, Chairman of the Township of Wallace Board of Supervisors, P.O. Box 670, Glen Moore, Pennsylvania 19343.
Pennsylvania | West Bradford (Township), Chester County | West Branch Brandywine Creek | Approximately 4,200 feet upstream of State Road 842 | *194 | *195
|  |  | Approximately 800 feet upstream of State Route 3027 (Northbrook Road) | *203 | *202
|  | East Branch Brandywine Creek | Approximately 5,100 feet downstream of U.S. Route 322 (First one) | *206 | *205
|  |  | Approximately 3,000 feet upstream of U.S. Route 322 (Second one) | *229 | *232
Maps available for inspection at the West Bradford Township Hall, 1385 Campus Drive, Downingtown, Pennsylvania.
Send comments to Mr. Jack Hines, West Bradford Township Manager, 1385 Campus Drive, Downingtown, Pennsylvania 19335.
Pennsylvania | West Brandywine (Township), Chester County | West Branch Brandywine Creek | Approximately 150 feet upstream of Kings Highway (State Route 340) | *364 | *365
|  |  | Approximately 600 feet upstream of Kings Highway | *366 | *367
Maps available for inspection at the West Brandywine Township Hall, 199 LaFayette Road, Coatesville, Pennsylvania.
Send comments to Mr. Joe Obenier, Chairman of the Township of West Brandywine Board of Supervisors, 199 LaFayette Road, Coatesville, Pennsylvania 19320.
Pennsylvania | West Caln (Township), Chester County | West Branch Brandywine Creek | Approximately 150 feet upstream of Kings Highway (State Route 340) | *264 | *365
|  |  | Approximately 600 feet upstream of Kings Highway | *366 | *367
Maps available for inspection at the West Caln Township Hall, 721 Kings Highway, Wagontown, Pennsylvania.
Send comments to Mr. Paul Pfitzenmeyer, Chairman of the Township of West Caln Board of Supervisors, P.O. Box 175, Wagontown, Pennsylvania 19376.
Pennsylvania | West Nantmeal (Township), Chester County | East Branch Brandywine Creek | Approximately 6,000 feet downstream of North Manor Road | None | *481
|  |  | Just downstream of South Creek or Chestnut Road | None | *458
Maps available for inspection at the West Nantmeal Township Hall, 455 North Manor Road, Elverson, Pennsylvania.
Send comments to Mr. Gary Elston, Chairman of the Township of West Nantmeal Board of Supervisors, P.O. Box 234, Elverson, Pennsylvania 19520.
Vermont | Plymouth (Town), Windsor County | Black River | Approximately 650 feet downstream of Tyson-Reading Road | *1,065 | *1,067
|  |  | At Black Pond Dam | *1,334 | *1,337
Maps available for inspection at the Town of Plymouth Clerk's Vault, Plymouth Union, Plymouth, Vermont.
Send comments to Mr. Ralph Michael, Chairman of the Town of Plymouth Board of Selectmen, 16 Bridge Street, Ludlow, Vermont 05149.
Virginia | Hillsboro (Town), Loundon County | North Fork Catoctin Creek | At the upstream side of State Route 718 | None | *504
|  |  | Approximately 300 feet upstream of State Route 719 | None | *533
Maps available for inspection at the Hillsboro Town Hall, 36991 Charlestown Pike, Hillsboro, Virginia.
Send comments to The Honorable Kenneth Rousseau, Mayor of the Town of Hillsboro, P.O. Box 32098, Hillsboro, Virginia 20134.
Virginia | Loudoun County (Unincorporated Areas) | Broad Run | At the confluence with the Potomac River | None | *210
|  |  | Approximately 800 feet downstream of the confluence of South Fork Broad Run | *267 | *268
|  | Beaverdam Run | At the confluence with Broad Run | *216 | *219
|  |  | Approximately 0.5 mile upstream of State Route 625 | None | *300
|  | Cabin Branch No. 1 | At confluence with Broad Run | *263 | *266
|  |  | Approximately 1,260 feet upstream of confluence with Broad Run | *264 | *266
|  | Cabin Branch No. 2 | At confluence with Broad Run | *219 | *221
|  |  | Approximately 1,550 feet upstream of Blossom Drive | None | *258
|  | Horsepen Run | At the confluence with Broad Run | None | *234
|  |  | Approximately 1,575 feet upstream of Dulles Toll Road | None | *280
|  | Indian Creek | From confluence with Horsepen Run | None | *260
|  |  | Approximately 2.2 miles upstream of the confluence with Horsepen Run | *285 | *282
|  | Lenah Run | At confluence with North Fork Broad Run | None | *280
|  |  | Approximately 75 feet upstream of U.S. Route 50 | None | *323
|  | North Fork Broad Run | Approximately 200 feet downstream of confluence with South Fork Broad Run | *269 | *268
|  |  | Approximately 0.57 mile upstream of confluence of Tributary to North Fork Broad Run | None | *306
|  | Russell Branch | At the confluence with Beaverdam Run | *216 | *219
|  |  | Approximately 1.2 miles upstream of the confluence with Beaverdam Run | None | *225
|  | South Fork Broad Run | Approximately 1,175 feet upstream from the confluence with Broad Run | *269 | *268
|  |  | Approximately 0.88 mile upstream of State Route 616 | None | *335
|  | Stallion Branch | At the confluence with Horsepen Run | None | *260
|  |  | Approximately 2.2 miles upstream of the confluence with Horsepen Run | *271 | *270
|  | Tributary B to Beaverdam Run | At the confluence with Tributary D to Beaverdam Run | None | *251
|  |  | Approximately 0.71 mile upstream of Claiborne Parkway | None | *316
|  | Tributary D to Beaverdam Run | At the confluence with Beaverdam Run | None | *251
|  |  | Approximately 1,900 feet upstream of State Route 642 (Hay Road) | None | *262
|  | Tributary No. 1 to Broad Run | At confluence with Broad Run | None | *244
|  |  | Approximately 400 feet upstream of the confluence with Broad Run | None | *244
|  | Tributary No. 2 to Broad Run | At the confluence with Broad Run | *252 | *251
|  |  | Approximately 0.57 mile upstream of the confluence with Broad Run | None | *265
|  | Tributary No. 3 to Broad Run | At the confluence with Broad Run | *262 | *264
|  |  | Approximately 0.57 mile upstream of the confluence with Broad Run | None | *266
|  | Tributary No. 1 to Beaverdam Run | At the confluence with Beaverdam Run | None | *228
|  |  | Approximately 0.47 mile upstream of confluence of Beaverdam Run | None | *234
|  | Tributary to Horsepen Run | At confluence with Horsepen Run | None | *273
|  |  | Approximately 0.71 mile upstream of the confluence with Horsepen Run | None | *321
|  | Tributary to North Fork Broad Run | At confluence with North Fork Broad Run | None | *297
|  |  | Approximately 1,770 feet upstream of confluence with North Fork Broad Run | None | *304
|  | Tributary to Stallion Branch | At the confluence with Stallion Branch | None | *260
|  |  | Approximately 0.44 mile upstream of the confluence with Stallion Branch | None | *260
Maps available for inspection at the Loudoun County Building, Building & Development Department, 1 Harrison Street, S.E., Leesburg, Virginia
Send comments to Mr. Kirby Bowers, Loudoun County Administrator, 1 Harrison Street, S.E., 5th Floor, P.O. Box 7000, Leesburg, Virginia 20177-7000.
Virginia | Pittsylvania County (Unincorporated Areas) | Dan River | At State boundary | *395 | *396
|  |  | Approximately 3.0 miles downstream of Southern Railway | *457 | *458
Maps available for inspection at the Pittsylvania County Zoning Office, 53 North Main Street, Chatham, Virginia.
Send comments to Mr. William D. Sleeper, Pittsylvania County Administrator, P.O. Box 426, Chatham, Virginia 24531.
West Virginia | Capon Bridge (Town), Hampshire County | Dillons Run | At the confluence with the Cacapon River | None | *814
|  |  | At a point approximately 2,600 feet upstream of the confluence with the Cacapon River | None | *814
|  | Cacapon River | At a point approximately 2,450 feet downstream of U.S. Route 50 | None | *811
|  |  | At a point approximately 4,350 feet upstream of U.S. Route 50 | None | *817
Maps available for inspection at the Capon Bridge Town Building, Route 50 East, Capon Bridge, West Virginia.
Send comments to The Honorable Frederick V. Berkeridge, Mayor of the Town of Capon Bridge, P.O. Box 183, Route 50 East, Capon Bridge, West Virginia 26711.
West Virginia | Hampshire County (Unincorporated Areas) | Cacapon River | At a point approximately 1.6 miles downstream of U.S. Route 50 | None | *807
|  |  | At a point approximately 1.9 miles upstream of U.S. Route 50 | None | *820
|  | Big Run | At the confluence with the South Branch Potomac River | None | *680
|  |  | At a point approximately 475 feet upstream of Grassy Lick Road | None | *1,057
|  | Dillons Run | At a point approximately 2,600 feet upstream of the confluence with the Cacapon River | None | *813
|  |  | At a point approximately 2,850 feet upstream of the confluence with the Cacapon River | None | *813
|  | Green Spring Run | At the confluence with North Branch Potomac River | None | *535
|  |  | At a point approximately 4.2 miles upstream of Green Spring Valley Road | None | *649
|  | Little Cacapon River | At a point approximately 1.1 miles downstream of Little Cacapon Road | None | *977
|  |  | At upstream side of Little Cacapon Road | None | *1,011
|  | North Fork Little Cacapon River | At confluence with Little Cacapon River | None | *1,011
|  |  | At a point approximately 1.1 miles upstream of Heide Cooper Road | None | *1,141
|  | South Fork Little Cacapon River | At confluence with Little Cacapon River | None | *1,011
|  |  | At a point approximately 1.9 miles upstream of U.S. Route 50 | None | *1,129
|  | Mill Branch | At confluence with Cacapon River | None | *818
|  |  | At a point approximately 2.5 miles upstream of U.S. Route 50 | None | *949
|  | North River | At a point approximately 7.2 miles downstream of U.S. Route 50 | None | *822
|  |  | At a point approximately 3.3 miles upstream of U.S. Route 50 | None | *906
|  | South Branch Potomac River | Upstream side of the Baltimore & Ohio Railroad bridge | None | *559
|  |  | Approximately 2.84 miles upstream of confluence of Big Run | None | *686
Maps available for inspection at the Hampshire County Courthouse, Main Street, Romney, West Virginia 26757.
Send comments to Mr. John D. Sitar, President of the Hampshire County Board of Commissioners, P.O. Box 806, Romney, West Virginia 26757.
West Virginia | Romney (Town), Hampshire County | Big Run | At a point approximately 225 feet downstream of State Route 28 | None | *738
|  |  | At a point approximately 0.8 mile upstream of State Route 28 | None | *838
Maps available for inspection at the Romney Town Building, 260 School Street, Romney, West Virginia.
Send comments to The Honorable Hoy Shingleton, Mayor of the Town of Romey, 260 School Street, Romney, West Virginia 26757.

(Catalog of Federal Domestic Assistance No. 83.100, “Flood Insurance.”)
Dated: October 16, 2000.
Michael J. Armstrong,
Associate Director for Mitigation.

[FR Doc. 00-27642 Filed 10-26-00; 8:45 am]

BILLING CODE 6718-04-P